DEPARTMENT OF HEALTH AND HUMAN SERVICES

Centers for Disease Control and Prevention

Notice of Public Meeting

AGENCY: The National Institute for Occupational Safety and Health (NIOSH) of the Centers for Disease Control and Prevention (CDC), Department of Health and Human Services.

Meeting Date and Time: May 3, 2007, 1:30 p.m.-5 p.m. EDT.

Place: Pittsburgh Airport Marriott, 777 Aten Road, Coraopolis, PA 15108, telephone (412) 788-8800, fax (412) 788-6299.

SUMMARY: The National Institute for Occupational Safety and Health (NIOSH) of the Centers for Disease Control and Prevention (CDC) announces the following public meeting and request for information:

NIOSH Availability of Opportunity to Provide Input regarding the National Occupational Research Agenda (NORA) for the Mining Sector.

Status: Meeting is open to the public, limited only by the space available. Participation is encouraged through the Web for those who cannot attend in person.

Background: A large part of our lives is shaped by the work we do. NORA is a framework to guide occupational safety and health research for the nation. It is an ongoing endeavor to focus research to reduce work-related injury and illness. As the program entered its second decade, it was structured according to eight industry sector groups in order to encourage widespread adoption of effective practices developed through research. Each sector will have a NORA Sector Council consisting of NIOSH and stakeholder representatives. The initial task of the NORA Mining Council will be to draft a strategic plan for the nation addressing high priority needs in the sector. Following revisions based on public comment, the ongoing task of the Council will then be to encourage implementation of the plan by research and industry organizations in order to reduce occupational illnesses, injuries and fatalities in the sector.

Given that NORA represents a broad-based partnership involving government, business, the worker community, academia, and others, public input is essential for planning future directions for the initiative. Some of the considerations for the Mining Sector are that NIOSH as the federal organization charged with conducting occupational safety and health research has established strategic goals in mining research. They are available for viewing: http://www.cdc.gov/niosh/programs/mining/goals.html. Since development of these goals, the NIOSH research program has been enhanced according to the requirements of the MINER Act of 2006: http://www.cdc.gov/niosh/mining/mineract/mineract.htm. Unlike other sectors, NIOSH can request advice from an Advisory Committee for mining: Mine Safety and Health Research Advisory Committee (MSHRAC). Besides these ongoing NIOSH activities, NORA provides the opportunity for NIOSH to work with partners and for partners to work with each other to effectively conduct additional research in mining safety and health and to move those research results into more effective workplace practice.

The first meeting of the NORA Mining Sector Council will be held May 3, 2007, 1:30 p.m.-5 p.m. From 2:30 p.m.-4 p.m., the meeting will be structured to hear stakeholder comments on important occupational safety and health issues in the industry, especially those not adequately covered by NIOSH or other ongoing research; organizations that should participate in the research or in NORA activities; individuals who are willing to participate in NORA Mining Sector Council activities; and efficient ways to accomplish the NORA activities in light of ongoing organizational activities in the sector. Participants wishing to provide comments may do so via E-mail or may request an opportunity to make a five minute presentation. All participants are requested to register for the free meeting by sending an E-mail to MWerner@cdc.gov with their name, affiliation, whether they wish to attend in person or through the Web, whether they are requesting time to speak briefly, and, if so, the general topic(s) on which they wish to speak. Participants wishing to speak are encouraged to register early. The public meetings are open to everyone, including all workers, professional societies, organized labor, employers, researchers, health professionals, government officials and elected officials. Broad participation is desired.

Summary: The NORA Mining Sector Council will accept public comments on the range of occupational safety and health issues that should be considered and the individuals and organizations who should be involved for the purpose of enhancing the effectiveness of the Council.

Types of occupational safety and health issues might include diseases, injuries, exposures, populations at risk, and needs of occupational safety and health systems. For example, occupational musculoskeletal disorders in workers at small operations might be seen as important for a segment of the mining sector. If possible, please include as much information as necessary for understanding the safety or health research priority you identify. Such information could include characterization of the frequency and severity with which the injury, illness, or hazardous exposure is occurring and of the factors you believe might be causing the health or safety issue. Input is also requested on the types of research that you believe might make a difference and the partners (e.g., specific industry associations, labor organizations, research organizations, governmental agencies) who should be involved in forming research efforts and in solving the problem.

All presentation text and other comments provided by e-mail will be entered into the searchable database of NORA comments, which will be publicly available and will be consulted by the NORA Mining Sector Council when drafting the strategic plan for the nation. The current version of the searchable database of NORA comments is available at: http://www2a.cdc.gov/niosh-comments/nora-comments/commentsrch.asp.

For Technical Information Contact: Dr. Michael A. Werner, Senior Scientist—Mining, NIOSH, telephone 509-354-8014, Co-Chair, NORA Mining Sector Council.

ADDRESSES: Comments and meeting registrations may also be e-mailed to MWerner@cdc.gov, or sent via postal mail to: Dr. Michael A. Werner, Spokane Research Lab, NIOSH, 315 E Montgomery Avenue, Spokane, Washington 99207.

Dated: April 18, 2007.
James D. Seligman,
Chief Information Officer, Centers for Disease Control and Prevention.

[FR Doc. E7-7849 Filed 4-24-07; 8:45 am]

BILLING CODE 4163-18-P